DEPARTMENT OF TRANSPORTATION

Federal Aviation Administration

14 CFR Part 39

[Docket No. FAA-2009-0262; Directorate Identifier 2008-NM-208-AD; Amendment 39-15946; AD 2009-13-07]

RIN 2120-AA64

Airworthiness Directives; Airbus Model A330-201, -202, -203, -223, -243, -301, -302, -303, -321, -322, -323, -341, -342, and -343 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

During receipt of spare parts at the final assembly line, it was discovered that lugs of the assembly nut * * * had been inverted (wrong orientation of the braking pin) during manufacturing process at the supplier.

* * * This lug inversion could give the illusion of correct torque whereas the affected parts are not properly connected.

Loose connection could lead to loss of the fire extinguishing system integrity and therefore inability to ensure the adequate agent concentration. In combination with an engine fire event, it could result in a temporary uncontrolled engine fire, which constitutes an unsafe condition.

* * * * *

We are issuing this AD to require actions to correct the unsafe condition on these products.

DATES: This AD becomes effective July 24, 2009.

The Director of the Federal Register approved the incorporation by reference of a certain publication listed in this AD as of July 24, 2009.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

We issued a notice of proposed rulemaking (NPRM) to amend 14 CFR part 39 to include an AD that would apply to the specified products. That NPRM was published in the Federal Register on March 26, 2009 (74 FR 13144). That NPRM proposed to correct an unsafe condition for the specified products. The MCAI states:

During receipt of spare parts at the final assembly line, it was discovered that lugs of the assembly nut, part number (P/N) A2621005000200, had been inverted (wrong orientation of the braking pin) during manufacturing process at the supplier.

The assembly nut P/N A2621005000200 is part of the engine fire-extinguishing piping assembly. It connects the extinguisher discharge head with the piping. The lugs function is to prevent the connection untwisting once it has been hand-tightened with the correct torque. This lug inversion could give the illusion of correct torque whereas the affected parts are not properly connected.

Loose connection could lead to loss of the fire extinguishing system integrity and therefore inability to ensure the adequate agent concentration. In combination with an engine fire event, it could result in a temporary uncontrolled engine fire, which constitutes an unsafe condition.

To restore connection integrity, this Airworthiness Directive (AD) requires a one-time general visual inspection of the affected nut assembly to detect and correct any wrong orientation of lugs.

The corrective actions include a temporary repair (restoration) and replacing the fire extinguisher bottle nut assembly with the braking pin in the inverted position, if necessary. You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 4 products of U.S. registry. We also estimate that it will take about 9 work-hours per product to comply with the basic requirements of this AD. The average labor rate is $80 per work-hour. Based on these figures, we estimate the cost of this AD to the U.S. operators to be $2,880, or $720 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-13-07 Airbus: Amendment 39-15946. Docket No. FAA-2009-0262; Directorate Identifier 2008-NM-208-AD.

Effective Date

(a) This airworthiness directive (AD) becomes effective July 24, 2009.

Affected ADs

(b) None.

Applicability

(c) This AD applies to Airbus Model A330-201, -202, -203, -223, -243, -301, -302, -303, -321, -322, -323, -341, -342, and -343 series airplanes, certificated in any category; having serial numbers 0845, 0850, 0851, 0852, 0853, 0854, 0855, 0857, 0858, 0859, 0860, 0861, 0862, 0863, 0865, 0866, 0867, 0868, 0869, 0871, 0873, 0875, 0876, 0877, 0879, 0881, 0882, 0883, 0884, 0885, 0887, 0888, 0889, 0890, 0892, 0893, 0895, 0896, 0898, 0899, 0900, 0901, 0903, 0904, 0905, 0906, 0907, 0908, 0909, 0911, 0913, 0914, 0915, 0916, 0918, 0919, 0920, 0922, 0923, and 0951.

Subject

(d) Air Transport Association (ATA) of America Code 26: Fire protection.

Reason

(e) The mandatory continuing airworthiness information (MCAI) states:

During receipt of spare parts at the final assembly line, it was discovered that lugs of the assembly nut, part number (P/N) A2621005000200, had been inverted (wrong orientation of the braking pin) during manufacturing process at the supplier.

The assembly nut P/N A2621005000200 is part of the engine fire-extinguishing piping assembly. It connects the extinguisher discharge head with the piping. The lugs function is to prevent the connection untwisting once it has been hand-tightened with the correct torque. This lug inversion could give the illusion of correct torque whereas the affected parts are not properly connected.

Loose connection could lead to loss of the fire extinguishing system integrity and therefore inability to ensure the adequate agent concentration. In combination with an engine fire event, it could result in a temporary uncontrolled engine fire, which constitutes an unsafe condition.

To restore connection integrity, this Airworthiness Directive (AD) requires a one-time general visual inspection of the affected nut assembly to detect and correct any wrong orientation of lugs.

The corrective actions include a temporary repair (restoration) and replacing the fire extinguisher bottle nut assembly with the braking pin in the inverted position, if necessary.

Actions and Compliance

(f) Unless already done, do the following actions:

(1) Within 900 flight hours after the effective date of this AD, perform a general visual inspection to detect any wrong orientation of the lugs of the fire extinguisher bottle nut assembly of both engines, and do all applicable corrective actions specified in paragraphs (f)(1)(i) and (f)(1)(ii) of this AD, in accordance with the Accomplishment Instructions of Airbus Mandatory Service Bulletin A330-26-3043, dated October 7, 2008.

(i) Before further flight, if the correct nut assembly is available, replace the fire extinguisher bottle nut assembly.

(ii) Before further flight, if the correct nut assembly is not available, do the temporary repair; and within 900 flight hours after doing the repair, replace the fire extinguisher bottle nut assembly with the correct one.

(2) Submit a report of the findings of the inspection required by paragraph (f)(1) of this AD using Appendix 01 of Airbus Mandatory Service Bulletin A330-26-3043, dated October 7, 2008, at the applicable time specified in paragraph (f)(2)(i) or (f)(2)(ii) of this AD. Send the report to Airbus Department SEEE6, Airbus Customer Services Directorate, 1 Rond Point Maurice Bellonte, 31707 Blagnac Cedex France, Attn: SDC32 Technical Data and Documentation Services; fax 33 5 61 93 28 06; e-mail sb.reporting@airbus.com.

(i) If the inspection was done on or after the effective date of this AD: Submit the report within 30 days after the inspection.

(ii) If the inspection was accomplished prior to the effective date of this AD: Submit the report within 30 days after the effective date of this AD.

FAA AD Differences

Note 1: This AD differs from the MCAI and/or service information as follows: No differences.

Other FAA AD Provisions

(g) The following provisions also apply to this AD:

(1) Alternative Methods of Compliance (AMOCs): The Manager, International Branch, ANM-116, Transport Airplane Directorate FAA, has the authority to approve AMOCs for this AD, if requested using the procedures found in 14 CFR 39.19. Send information to Attn: Vladimir Ulyanov, Aerospace Engineer, International Branch, ANM-116, Transport Airplane Directorate, FAA, 1601 Lind Avenue, SW., Renton, Washington 98057-3356; telephone (425) 227-1138; fax (425) 227-1149. Before using any approved AMOC on any airplane to which the AMOC applies, notify your principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2008-0196, dated October 27, 2008; and Airbus Mandatory Service Bulletin A330-26-3043, including Appendices 01, 2, and 3, dated October 7, 2008; for related information.

Material Incorporated by Reference

(i) You must use Airbus Mandatory Service Bulletin A330-26-3043, including Appendices 01, 2, and 3, dated October 7, 2008, to do the actions required by this AD, unless the AD specifies otherwise.

(1) The Director of the Federal Register approved the incorporation by reference of this service information under 5 U.S.C. 552(a) and 1 CFR part 51.

(2) For service information identified in this AD, contact Airbus SAS—Airworthiness Office—EAL, 1 Rond Point Maurice Bellonte, 31707 Blagnac Cedex, France; telephone +33 5 61 93 36 96; fax +33 5 61 93 45 80, e-mail airworthiness.A330-A340@airbus.com; Internet http://www.airbus.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on June 11, 2009.
Ali Bahrami,
Manager, Transport Airplane Directorate, Aircraft Certification Service.

[FR Doc. E9-14308 Filed 6-18-09; 8:45 am]

BILLING CODE 4910-13-P